SMALL BUSINESS ADMINISTRATION

[Disaster Declaration #12639 and #12640]

Massachusetts Disaster Number MA-00037

AGENCY: U.S. Small Business Administration.

ACTION: Amendment 1.

SUMMARY: This is an amendment of the Presidential declaration of a major disaster for Public Assistance Only for the Commonwealth of Massachusetts (FEMA-1994-DR), dated 06/15/2011.

Incident: Severe Storms and Tornadoes.

Incident Period: 06/01/2011.

Effective Date: 07/21/2011.

Physical Loan Application Deadline Date: 08/15/2011.

Economic Injury (EIDL) Loan Application Deadline Date: 03/15/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the Commonwealth of Massachusetts, dated 06/15/2011, is hereby amended to include the following areas as adversely affected by the disaster.

Primary Areas

The Towns of Southbridge and Sturbridge in Worcester County.

All other information in the original declaration remains unchanged.

(Catalog of Federal Domestic Assistance Numbers 59002 and 59008)

Lisa Lopez-Suarez,
Acting Associate Administrator for Disaster Assistance.

[FR Doc. 2011-19237 Filed 7-28-11; 8:45 am]

BILLING CODE 8025-01-P